DEPARTMENT OF TRANSPORTATION

Surface Transportation Board

[STB Finance Docket No. 34926]

Greenville & Western Railway Company, LLC—Acquisition and Operation Exemption—Line of CSX Transportation, Inc.

Greenville & Western Railway Company, LLC (GRLW), a noncarrier, has filed a verified notice of exemption under 49 CFR 1150.31 to acquire from CSX Transportation, Inc., and to operate a rail line extending from milepost AKL 26.26, near Belton, to milepost AKL 39.00, near Pelzer, a distance of 12.74 miles, in Anderson County, SC.

GRLW certifies that its projected revenues as a result of this transaction will not exceed those that would qualify it as a Class III rail carrier, and further certifies that its projected annual revenues will not exceed $5 million.

The transaction is scheduled to be consummated on October 20, 2006.

If the verified notice contains false or misleading information, the exemption is void ab initio. Petitions to revoke the exemption under 49 U.S.C. 10502(d) may be filed at any time. The filing of a petition to revoke will not automatically stay the transaction.

An original and 10 copies of all pleadings, referring to STB Finance Docket No. 34926 must be filed with the Surface Transportation Board, 1925 K Street, NW., Washington, DC 20423-0001. In addition, one copy of each pleading must be served on Steven C. Hawkins, President, Greenville & Western Railway Company, LLC, Post Office Box 16614, Greenville, SC 29606-7614.

Board decisions and notices are available on our Web site at http://www.stb.dot.gov.

Decided: October 16, 2006.
By the Board, David M. Konschnik, Director, Office of Proceedings.
Vernon A. Williams,
Secretary.

[FR Doc. E6-17601 Filed 10-19-06; 8:45 am]

BILLING CODE 4915-01-P